DEPARTMENT OF THE INTERIOR

Bureau of Land Management

[MT-060-1430-ET; MTM 68761]

Public Land Order No. 7695; Extension of Public Land Order No. 6674; Montana

AGENCY: Bureau of Land Management, Interior.

ACTION: Public Land Order.

SUMMARY: This order extends the withdrawal created by Public Land Order No. 6674 for an additional 20-year period. This extension is necessary to continue protection of the Bureau of Land Management's Blacktail Creek Paleontological Site in Fergus County, Montana, which would otherwise expire on April 26, 2008.

EFFECTIVE DATE: April 27, 2008.

FOR FURTHER INFORMATION CONTACT: Russ Sorensen, BLM, Lewistown Field Office, P.O. Box 1160, Lewistown, Montana 59457, (406) 538-1910, or Sandra Ward, BLM, Montana State Office, 5001 Southgate Drive, Billings, Montana 59101-4669, (406) 896-5052.

SUPPLEMENTARY INFORMATION: The withdrawal extended by this order will expire April 26, 2028, unless, as a result of a review conducted prior to the expiration date pursuant to section 204(f) of the Federal Land Policy and Management Act of 1976, 43 U.S.C. 1714(f) (2000), the Secretary determines that the withdrawal shall be further extended.

Order

By virtue of the authority vested in the Secretary of the Interior by section 204 of the Federal Land Policy and Management Act of 1976, 43 U.S.C. 1714 (2000), it is ordered as follows:

Public Land Order No. 6674 (53 FR 15041 (1988)), which withdrew 320 acres of public lands from settlement, sale, location, or entry under the general land laws, including the United States mining laws to protect the Blacktail Creek Paleontological Site, is hereby extended for an additional 20-year period until April 26, 2028.

Authority: 43 CFR 2310.4

Dated: March 13, 2008.
C. Stephen Allred,
Assistant Secretary—Land and Minerals Management.

[FR Doc. E8-6010 Filed 3-24-08; 8:45 am]

BILLING CODE 4310-$$-P